DEPARTMENT OF COMMERCE

International Trade Administration

[A-821-813]

Notice of Final Determination of Sales at Not Less Than Fair Value: Pure Magnesium From the Russian Federation

AGENCY: Import Administration, International Trade Administration, Department of Commerce.

ACTION: Notice of final determination of sales at not less than fair value.

EFFECTIVE DATE: September 27, 2001.

FOR FURTHER INFORMATION CONTACT: Alysia Wilson or Shawn Thompson, AD/CVD Enforcement Group I, Office 2, Import Administration, International Trade Administration, U.S. Department of Commerce, 14th Street and Constitution Avenue, NW, Washington, DC 20230; telephone: (202) 482-0108 or (202) 482-1776, respectively.

Summary: The Department of Commerce is conducting an antidumping duty investigation of pure magnesium from the Russian Federation. We determine that sales have not been made at less than fair value.

The Applicable Statute: Unless otherwise indicated, all citations to the Tariff Act of 1930, as amended (the Act) are references to the provisions effective January 1, 1995, the effective date of the amendments made to the Act by the Uruguay Round Agreements Act (URAA). In addition, unless otherwise indicated, all citations to the Department of Commerce's (“Department's”) regulations are to 19 CFR part 351 (2000).

Final Determination: We determine that pure magnesium from the Russian Federation (Russia) is not being, nor is it likely to be, sold in the United States at less than fair value (LTFV), as provided in section 735 of the Act.

Case History

The preliminary determination in this investigation was issued on April 23, 2001. See, Notice of Preliminary Determination of Sales at Not Less Than Fair Value: Pure Magnesium From the Russian Federation, 66 FR 21319 (April 30, 2001) (Preliminary Determination).

In May and June, 2001, we conducted verification of the questionnaire responses submitted by each of the respondents in this investigation (i.e., Avisma Titanium Magnesium Works (Avisma), Greenwich Metals Corporation (Greenwich), and Solikamsk Magnesium Works (SMW)).

In July 2001, we received case briefs from the petitioners (i.e., Magnesium Corporation of America, the United Steelworkers of America, USWA 482 and 8319, and Concerned Employees of Northwest Alloys, Inc.), the three respondents noted above, and a U.S. producer of magnesium-based reagent mixtures and importer of magnesium products (i.e., Rossborough Manufacturing Co. (Rossborough)). Also in July 2001, we received rebuttal briefs from the petitioners, Avisma, Greenwich, and Rossborough.

Although the deadline for this determination was originally September 12, 2001, in light of the events of September 11, 2001 and the subsequent closure of the Federal Government for reasons of security, the timeframe for issuing this determination has been extended by two days.

Scope of Investigation

The scope of this investigation includes imports of pure magnesium products, regardless of chemistry, form, or size, including, without limitation, ingots, raspings, granules, turnings, chips, powder, and briquettes.

Pure magnesium includes: (1) Products that contain at least 99.95 percent primary magnesium, by weight (generally referred to as “ultra-pure” magnesium); (2) products that contain less than 99.95 percent but not less than 99.8 percent primary magnesium, by weight (generally referred to as “pure” magnesium); (3) chemical combinations of pure magnesium and other material(s) in which the pure magnesium content is 50 percent or greater, but less than 99.8 percent, by weight, that do not conform to an “ASTM Specification for Magnesium Alloy” ¹ (generally referred to as “off-specification pure” magnesium); and (4) physical mixtures of pure magnesium and other material(s) in which the pure magnesium content is 50 percent or greater, but less than 99.8 percent, by weight. Excluded from this order are mixtures containing 90 percent or less pure magnesium by weight and one or more of certain non-magnesium granular materials to make magnesium-based reagent mixtures. The non-magnesium granular materials which the Department is aware are used to make such excluded reagents are: Lime, calcium metal, calcium silicon, calcium carbide, calcium carbonate, carbon, slag coagulants, fluorspar, nephaline syenite, feldspar, aluminum, alumina (Al2O3), calcium aluminate, soda ash, hydrocarbons, graphite, coke, silicon, rare earth metals/mischmetal, cryolite, silica/fly ash, magnesium oxide, periclase, ferroalloys, dolomitic lime, and colemanite. A party importing a magnesium-based reagent which includes one or more materials not on this list is required to seek a scope clarification from the Department before such a mixture may be imported free of antidumping duties.

¹ The meaning of this term is the same as that used by the American Society for Testing and Materials in its Annual Book of ASTM Standards: Volume 01.02 Aluminum and Magnesium Alloys.

The merchandise subject to this investigation is classifiable under items 8104.11.00, 8104.19.00, and 8104.30.00 of the Harmonized Tariff Schedule of the United States (HTSUS). Although the HTSUS subheadings are provided for convenience and customs purposes, the written description of the merchandise under investigation is dispositive.

For a full discussion of scope comments and determinations, see the accompanying September 14, 2001, Issue and Decision Memorandum from Richard W. Moreland, Deputy Assistant Secretary for Import Administration, to Faryar Shirzad, Assistant Secretary for Import Administration (“Issues and Descision Memorandum”), Comment 12, which is on file in the Central Records Unit of the main Department building (“B-099”) and on the Web at http://ia.ita.doc.gov.

Period of Investigation

The period of investigation (“POI”) is April 1, 2000, through September 30, 2000, which corresponds to the two most recent fiscal quarters prior to the month of the filing of the petition (i.e., October 2000).

Nonmarket Economy Country Status for Russia

The Department has treated Russia as a nonmarket economy (NME) country in all past antidumping duty investigations and administrative reviews. See, e.g., Notice of Final Determination of Sales at Less Than Fair Value: Hot-Rolled Flat-Rolled Carbon-Quality Steel Products from the Russian Federation, 64 FR 38626 (July 19, 1999); Titanium Sponge from the Russian Federation: Final Results of Antidumping Administrative Review, 64 FR 1599 (Jan. 11, 1999); Notice of Final Determination of Sales at Less Than Fair Value: Certain Cut-to-Length Carbon Steel Plate from the Russian Federation, 62 FR 61787 (Nov. 19, 1997); Notice of Final Determination of Sale at Less Than Fair Value: Pure Magnesium and Alloy Magnesium from the Russian Federation, 60 FR 16440 (Mar. 30, 1995) (Magnesium 1995 Investigation). A designation as a NME remains in effect until it is revoked by the Department. See section 771(18)(C) of the Act. No party in this investigation has requested a revocation of Russia's NME status. Therefore, we have continued to treat Russia as a NME in this investigation. For further details, see the Preliminary Determination.

Separate Rates

In our preliminary determination, we found that Avisma and SMW had met the criteria for the application of separate antidumping rates. We have not received any other information since the preliminary determination which would warrant reconsideration of our separate rates determination with respect to these two companies. Therefore, we continue to find that Avisma and SMW should be assigned individual dumping margins.

Regarding Greenwich, as stated in the Preliminary Determination, since Greenwich is located in a market economy country and is not affiliated with a Russian producer/exporter, we calculated a separate rate in accordance with our practice. See Notice of Final Determination of Sales at Less Than Fair Value: Bicycles From the People's Republic of China, 61 FR 19026, 19027 (Apr. 30, 1996).

Russia-Wide Rate

As explained in the Preliminary Determination, in all NME cases, the Department implements a policy whereby there is a rebuttable presumption that all exporters or producers located in the NME comprise a single exporter under common government control, the “NME entity.” The Department assigns a single NME rate to the NME entity unless an exporter can demonstrate eligibility for a separate rate.

Information on the record of this investigation indicates that Avisma and SMW were the only Russian producers and/or exporters of the subject merchandise with sales or shipments to the United States during the POI. Based upon our examination and clarification of Customs data, we have determined that there are no other Russian producers and/or exporters of the subject merchandise and consequently none which were required to respond to the Department's questionnaire. See the memorandum from Christopher Priddy to the file entitled “Examination of Customs Data for Pure Magnesium Russian Imports During the Period of Investigation” dated April 23, 2001. We have not received any other information since the Preliminary Determination which would warrant reconsideration of this determination. Therefore, we have continued not to assign a Russia-wide rate in this investigation.

Surrogate Country

For purposes of the final determination, we find that South Africa remains the appropriate primary surrogate country for Russia. For further discussion and analysis regarding the surrogate country selection for Russia, see the Preliminary Determination.

Analysis of Comments Received

All issues raised in the case briefs by parties to this proceeding and to which we have responded are listed in the Appendix to this notice and addressed in the Decision Memorandum, which is hereby adopted by this notice. Parties can find a complete discussion of the issues raised in this investigation and the corresponding recommendations in this public memorandum, which is on file in the Central Records Unit, room B-099 of the main Commerce building. In addition, a complete version of the Decision Memorandum can be accessed directly on the Web at http://ia.ita.doc.gov. The paper copy and electronic version of the Decision Memorandum are identical in content.

Changes Since the Preliminary Determination

Based on our analysis of comments received, we have made certain changes to the margin calculations. For a discussion of these changes, see the “Margin Calculations” section of the Decision Memorandum.

Verification

As provided in section 782(i) of the Act, we verified the information submitted by the respondents for use in our final determination. We used standard verification procedures including examination of relevant accounting and production records, and original source documents provided by the respondents.

Final Determination

We determine that the following percentage weighted-average margins exist for the period April 1, 2000 through September 30, 2000:

Manufacturer/exporter | Margin (percent)
Avisma Titanium Magnesium Works | 0.00
Greenwich Metals Corporation | 0.00
Solikamsk Magnesium Works | 0.00

Suspension of Liquidation

Because the estimated weighted-average dumping margins for all the examined companies are 0.00 percent, we are not directing the Customs Service to suspend liquidation of entries of pure magnesium from Russia.

Notification of the International Trade Commission

In accordance with section 735(d) of the Act, we have notified the International Trade Commission of our determination.

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This determination is issued and published in accordance with sections 735(d) and 777(i) of the Act.

Dated: September 14, 2001.
Faryar Shirzad,
Assistant Secretary for Import Administration.

Appendix—Issues in the Decision Memorandum

Comment 1: Valuation of Factory Overhead and Profit

Comment 2: Adjustment to Factory Overhead for Cell Rebuild Costs

Comment 3: Knowledge of Destination of Sales—Avisma

Comment 4: By-Product Processing Costs—Avisma

Comment 5: Treatment of Sulfur and Boric Acid—Avisma

Comment 6: Chlorine Offset Purity Levels—Avisma

Comment 7: Rounding Surrogate Value Used for Electricity—Avisma

Comment 8: Trial Shipments—Greenwich

Comment 9: Date of Sale—Greenwich

Comment 10: U.S. Freight Expenses—SMW

Comment 11: U.S. Warehousing Expenses—SMW

Comment 12: Scope

Comment 13: Standing

[FR Doc. 01-24229 Filed 9-26-01; 8:45 am]

BILLING CODE 3510-DS-P